DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Services Accountability Improvement System—(OMB No. 0930-0208)—Extension

This is an extension to the previously OMB approved instrument. The Services Accountability Improvement System (SAIS), which is a real-time, performance management system that captures information on the substance abuse treatment and mental health services delivered in the United States. A wide range of client and program information is captured through SAIS for approximately 600 grantees. Substance abuse treatment facilities submit their data on a monthly and even a weekly basis to ensure that SAIS is an accurate, up-to-date reflection on the scope of services delivered and characteristics of the treatment population. Over 30 reports on grantee performance are readily available on the SAIS Web site. The reports inform staff on the grantees' ability to serve their target populations and meet their client and budget targets. SAIS data allow grantees information that can guide modifications to their service array. Continued approval of this information collection will allow SAMHSA to continue to meet Government Performance and Results Act of 1993 (GPRA) reporting requirements that quantify the effects and accomplishments of its discretionary grant programs which are consistent with OMB guidance.

Note that there are no changes to the instrument or the burden hours from the previous OMB submission.

Estimates of Annualized Hour Burden ¹—CSAT GPRA Client Outcome Measures for Discretionary Programs
Center/Form/Respondent type | Number of respondents | Responses per respondent | Total responses | Hours per response | Total hour burden | Added burden proportion ²
Clients
Adolescents | 3,900 | 4 | 15,600 | .5 | 7,800 | .34
Adults
General (non ATR or SBIRT) | 28,000 | 3 | 84,000 | .5 | 42,000 | .34
ATR | 53,333 | 3 | 159,999 | .5 | 80,000 | .34
SBIRT ⁴ Screening Only | 150,618 | 1 | 150,618 | .13 | 19,580 | 0
SBIRT Brief Intervention | 27,679 | 3 | 83,037 | .20 | 16,607 | 0
SBIRT Brief Tx & Refer to Tx | 9,200 | 3 | 27,600 | .5 | 13,800 | .34
Client Subtotal | 272,730 |  | 520,854 |  | 179,787 |
Data Extract ⁵ and Upload
Adolescent Records | 44 grants | 44 × 4 | 176 | .18 | 32 |
Adult Records
General (non ATR or SBIRT) | 528 grants | 70 × 3 | 210 | .18 | 38 |
ATR Data Extract | 53,333 | 3 | 160,000 | .16 | 25,600 |
ATR Upload ⁶ | 24 grants | 3 | 160,000 | 1 hr. per 6,000 records | 27 |
SBIRT Screening Only Data Extract | 9 grants | 21,517 × 1 | 21,517 | .07 | 1,506 |
SBIRT Brief Intervention Data Extract | 9 grants | 3,954 × 3 | 11,862 | .10 | 1,186 |
SBIRT Brief Tx & Refer to Tx Data Extract | 9 grants | 1,314 × 3 | 3,942 | .18 | 710 |
SBIRT Upload ⁷ | 7 grants |  | 171,639 | 1 hr. per 6,000 records | 29 |
Data Extract and Upload Subtotal | 53,856 |  | 529,382 |  | 29,134 |
TOTAL | 326,586 |  | 1,050,236 |  | 208,921 |
Notes :
¹ This table represents the maximum additional burden if adult respondents, for the discretionary services programs including ATR, provide three sets of responses/data and if CSAT adolescent respondents, provide four sets of responses/data.
² Added burden proportion is an adjustment reflecting customary and usual business practices programs engage in (e.g., they already collect the data items).
³ Estimate based on 2010 hourly wave of $19.97 for U.S. workforce eligible from the Bureau of Labor Statistics.
⁴ Screening, Brief Intervention, Treatment and Referral (SBIRT) grant program:
* 27,679 Brief Intervention (BI) respondents complete sections A & B of the GPRA instrument, all of these items are asked during a customary and usual intake process resulting in zero burden; and
* 9,200 Brief Treatment (BT) & Referral to Treatment (RT) respondents complete all sections of the GPRA instrument.
⁵ Data Extract by Grants: Grant burden for capturing customary and usual data.
⁶ Upload: all 24 ATR grants upload data.
⁷ Upload: 7 of the 9 SBIRT grants upload data; the other 2 grants conduct direct data entry.

Based on current funding and planned fiscal year 2010 notice of funding announcements (NOFA), the CSAT programs that will use these measures in fiscal years 2010 through 2012 include: The Access to Recovery 2 (ATR2), ATR3, Addictions Treatment for Homeless; Adult Criminal Justice Treatment; Assertive Adolescent Family Treatment; HIV/AIDS Outreach; Office of Juvenile Justice and Delinquency Prevention—Brief Intervention and Referral to Treatment (OJJDP-BIRT); OJJDP-Juvenile Drug Court (OJJDP-JDC); Offender Re-entry Program; Pregnant and Postpartum Women; Recovery Community Services Program—Services; Recovery Oriented Systems of Care; Screening and Brief Intervention and Referral to Treatment (SBIRT), Targeted Capacity Expansion (TCE); TCE/HIV; Treatment Drug Court; and the Youth Offender Reentry Program. SAMHSA uses the performance measures to report on the performance of its discretionary services grant programs. The performance measures information is used by individuals at three different levels: The SAMHSA administrator and staff, the Center administrators and government project officers, and grantees.

SAMHSA and its Centers will use the data for annual reporting required by GPRA and for NOMs comparing baseline with discharge and follow-up data. GPRA requires that SAMHSA's report for each fiscal year include actual results of performance monitoring for the three preceding fiscal years. The additional information collected through this process will allow SAMHSA to report on the results of these performance outcomes as well as be consistent with the specific performance domains that SAMHSA is implementing as the NOMs, to assess the accountability and performance of its discretionary and formula grant programs.

Send comments to Summer King, SAMHSA Reports Clearance Officer, Room 2-1057, 1 Choke Cherry Road, Rockville, MD 20857 OR email her a copy at summer.king@samhsa.hhs.gov. Written comments should be received within 60 days of this notice.

Summer King,
Statistician.

[FR Doc. 2012-30385 Filed 12-17-12; 8:45 am]

BILLING CODE 4162-20-P